DEPARTMENT OF LABOR

Employment and Training Administration

[TA-W-53,315B]

OBG Distribution Company, LLC, Oshkosh B'Gosh, Inc., Celina, Tennessee; Notice of Termination of Investigation

Pursuant to section 221 of the Trade Act of 1974, as amended, an investigation was initiated on October 22, 2003, in response to a petition filed by a company official on behalf of workers at Oshkosh B'Gosh, Inc., OBG Distribution Company, LLC, Celina, Tennessee.

The subject worker group is covered by an active certification issued on March 10, 2003 (TA-W-50,662). Consequently, the investigation has been terminated.

Signed at Washington, DC this 24th day of November, 2003.
Linda G. Poole,
Certifying Officer, Division of Trade Adjustment Assistance.

[FR Doc. 03-31673 Filed 12-23-03; 8:45 am]

BILLING CODE 4510-30-P